DEPARTMENT OF AGRICULTURE

Forest Service

Intent To Reestablish the Black Hills National Forest Advisory Board and Solicitation of Nominations for Membership for the Black Hills National Forest Advisory Board AGENCY: Forest Service, Agriculture (USDA).

ACTION: Notice to reestablish the Black Hills National Forest Advisory Board and solicit nominations for membership.

SUMMARY: In accordance with the Forest and Rangeland Renewable Resources Planning Act of 1974 (RPA), the National Forest Management Act of 1976 (NFMA), the Federal Lands Recreation Enhancement Act (REA), and the Federal Advisory Committee Act (FACA), the United States Department of Agriculture announces its intent through its Secretary to reestablish the Black Hills National Forest Advisory Board. The Black Hills National Forest Advisory Board will advise the Secretary of Agriculture on programmatic forest issues and project level issues that have forest-wide implications. The Black Hills National Forest Advisory Board will be governed by the provisions of FACA. Duration of the Black Hills National Forest Advisory Board is for two years unless renewed by the Secretary, USDA. This notice also solicits nominations for membership on the Black Hills National Forest Advisory Board.

DATES: Nominations must be submitted via email or postmarked 30 days from the date of publishing this notice in the Federal Register. Once approved by the Secretary, the charter will be valid on the date of filing by the USDA Committee Management Officer and once the filing requirements are met.

ADDRESSES: Please submit nominations and resumes to Scott Jacobson, Committee Coordinator, 8221 Mount Rushmore Road, Rapid City, South Dakota 57702.

FOR FURTHER INFORMATION CONTACT: Toni Strauss, Designated Federal Officer (DFO), by phone at 605-673-9201 or email at toni.strauss@usda.gov, or Scott Jacobson, Committee Coordinator, by phone at 605-440-1409 or email at scott.j.jacobson@usda.gov.

SUPPLEMENTARY INFORMATION: Pursuant to the Forest and Rangeland Renewable Resources Planning Act of 1974 (16 U.S.C. 1600 et.seq.), the National Forest Management Act of 1976 (16 U.S.C. 1612), the Federal Lands Recreation Enhancement Act (Pub. L. 108-447), and the Federal Advisory Committee Act (5 U.S.C. 10), notice is hereby given that the Secretary of Agriculture intends to establish the charter.

Scope and Structure

The purpose of the Board is to provide advice and recommendations on a broad range of forest issues such as forest plan revisions or amendments, forest health including fire and mountain pine beetle epidemics, travel management, forest monitoring and evaluation, recreation fees, and site-specific projects having forest-wide implications. The Board will meet approximately nine times per year and will attend one summer field tour.

The Black Hills National Forest Advisory Board consists of 16 members. The members represent the following areas of interest:

• Developed outdoor recreation, Off-Highway Vehicle (OHV) use, or commercial recreation

• Economic development

• Energy and mineral development

• Forest products industry

• Nationally recognized sportsmen's group such as anglers or hunters

• Archaeological, cultural, and historical interests

• Nationally recognized environmental organization

• Regionally recognized environmental organization

• Dispersed recreation

• Hold federal grazing permits or other land use permits

• Tribal government elected or appointed official

• Hold state, county, local-elected or appointed office in South Dakota or Wyoming

• State Natural Resource Agency official from South Dakota

• State Natural Resource Agency official from Wyoming

Any interested person or organization may nominate qualified individuals for membership. Interested candidates may nominate themselves. Individuals who wish to be considered for membership on the Black Hills National Forest Advisory Board must submit a nomination with information, including a background disclosure form (Form AD-755). Nominations should be typed and include the following:

1. If nominating an individual, a brief summary, no more than two pages, explaining the nominee's qualifications to serve on the Black Hills National Forest Advisory Board and addressing the membership composition and criteria described above.

2. A resume providing the nominee's background, experience, and educational qualifications.

3. A completed background disclosure form (Form AD-755) signed by the nominee. https://www.usda.gov/sites/default/files/documents/ad-755.pdf

4. Letters of endorsement are optional.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Board. To ensure that the recommendations of the Board have taken in account the needs of the diverse groups served by USDA, membership shall include to the extent possible, individuals with demonstrated ability to represent minorities, women and persons with disabilities. USDA is an equal opportunity provider, employer, and lender.

Dated: December 12, 2023.
Cikena Reid,
USDA Committee Management Officer.

[FR Doc. 2023-27669 Filed 12-15-23; 8:45 am]

BILLING CODE 3411-15-P